Title 3—

The President

Proclamation 9022 of September 20, 2013

National Employer Support of the Guard and Reserve Week, 2013

By the President of the United States of America

A Proclamation

Across generations, members of the United States Armed Forces have made America the greatest force for freedom and security the world has ever known. This week, we honor members of the National Guard and Reserve who carry that legacy forward. We thank the employers who support them; and we reaffirm our promise to provide our troops, our veterans, and our military families with the opportunities they have earned.

The men and women of the National Guard and Reserve come from every background, race, and creed, and demonstrate an unfaltering commitment to our Nation. On the field of battle and here at home, they place themselves in harm's way to protect our freedoms, our lives, and our communities. We are grateful to the employers that provide our Reservists and National Guard members extraordinary support and flexibility. We commend the businesses that help service members advance their civilian careers and ease transitions between military and civilian life.

America must pledge our full support to those who serve in our Armed Forces and their families. That is why First Lady Michelle Obama and Dr. Jill Biden launched the Joining Forces initiative—a program that expands employment opportunities for veterans and military spouses. My Administration has also worked to connect veterans to the workforce through an online Veterans Job Bank and through the Veteran Gold Card program, which provide enhanced services to post-9/11 veterans. I also signed into law tax credits that provide incentives for businesses to hire returning heroes and wounded warriors.

The patriots who serve under our proud flag never lose that sense of service to one another or to country. This week, we pay tribute to these selfless men and women who wear the uniform, to their families, and to their dedicated employers, whose enduring commitment keeps our military strong and our Nation secure.

NOW, THEREFORE, I, BARACK OBAMA, President of the United States of America, by virtue of the authority vested in me by the Constitution and the laws of the United States, do hereby proclaim September 22 through September 28, 2013, as National Employer Support of the Guard and Reserve Week. I call upon all Americans to join me in expressing our heartfelt thanks to the members of the National Guard and Reserve and their civilian employers. I also call on State and local officials, private organizations, and all military commanders, to observe this week with appropriate ceremonies and activities.

IN WITNESS WHEREOF, I have hereunto set my hand this twentieth day of September, in the year of our Lord two thousand thirteen, and of the Independence of the United States of America the two hundred and thirty-eighth.

[FR Doc. 2013-23542

Filed 9-24-13; 11:15 am]

Billing code 3295-F3